DEPARTMENT OF ENERGY

Federal Energy Regulatory Commission

Combined Notice of Filings #1

Take notice that the Commission received the following exempt wholesale generator filings:

Docket Numbers: EG13-44-000.

Applicants: Hazle Spindle, LLC.

Description: Self-Certification of EG of Hazle Spindle, LLC.

Filed Date: 6/24/13.

Accession Number: 20130624-5205.

Comments Due: 5 p.m. ET 7/15/13.

Take notice that the Commission received the following electric rate filings:

Docket Numbers: ER10-1414-004; ER10-1406-005; ER10-1416-005; ER13-1487-000; ER13-1488-000; ER13-1489-000.

Applicants: Quantum Auburndale Power, LP, Auburndale Power Partners, L.P., Lake Cogen Ltd., Pasco Cogen, Ltd.

Description: Amendment to May 20, 2012 and May 13, 2013 Notification of Non-Material Change in Status and May 14, 2013 Tariff Filings of the Quantum Entities.

Filed Date: 6/19/13.

Accession Number: 20130619-5126.

Comments Due: 5 p.m. ET 7/10/13.

Docket Numbers: ER12-673-002; ER12-672-002; ER10-1908-003; ER10-1909-003; ER10-1910-003; ER10-1911-003; ER10-1533-004; ER10-2374-003; ER12-674-002; ER12-670-002.

Applicants: Brea Generation LLC, Brea Power II, LLC, Duquesne Conemaugh LLC, Duquesne Keystone LLC, Duquesne Light Company, Duquesne Power, LLC, Macquarie Energy LLC, Puget Sound Energy, Inc., Rhode Island Engine Genco, LLC, Rhode Island LFG Genco, LLC.

Description: Notice of Non-Material Change in Status of Brea Generation LLC, et al.

Filed Date: 6/24/13.

Accession Number: 20130624-5211.

Comments Due: 5 p.m. ET 7/15/13.

Docket Numbers: ER13-1556-000.

Applicants: Entergy Services, Inc.

Description: Supplement to May 24, 2013 Entergy Services, Inc. tariff filing of Service Agreements.

Filed Date: 6/13/13.

Accession Number: 20130613-5075.

Comments Due: 5 p.m. ET 7/5/13.

Docket Numbers: ER13-1759-000.

Applicants: Wisconsin Electric Power Company.

Description: Wisconsin Electric Rate Schedule No.128—WPS Letter of Concurrence May 2013 to be effective 5/20/2013.

Filed Date: 6/24/13.

Accession Number: 20130624-5166.

Comments Due: 5 p.m. ET 7/15/13.

Docket Numbers: ER13-1760-000.

Applicants: Wisconsin Electric Power Company.

Description: Wisconsin Electric Rate Schedule No. 129—UPPCO Letter of Concurrence May 2013 to be effective 5/20/2013.

Filed Date: 6/24/13.

Accession Number: 20130624-5167.

Comments Due: 5 p.m. ET 7/15/13.

Docket Numbers: ER13-1764-000.

Applicants: NorthWestern Corporation.

Description: (Resubmittal of 20130612-5133) Northwestern Corporation submits Request for Waiver from requirement to file tariff amendments implementing Order No. 1000 interregional planning and cost allocation requirements for Northwestern's South Dakota division.

Filed Date: 6/13/13.

Accession Number: 20130613-5023.

Comments Due: 5 p.m. ET 7/2/13.

Take notice that the Commission received the following electric securities filings:

Docket Numbers: ES13-32-000.

Applicants: Upper Peninsula Power Company.

Description: Application for Renewed Authorization to Issue Long-Term Debt of Upper Peninsula Power Company.

Filed Date: 6/24/13.

Accession Number: 20130624-5207.

Comments Due: 5 p.m. ET 7/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2013.
Nathaniel J. Davis, Sr.,
Deputy Secretary.

[FR Doc. 2013-16065 Filed 7-3-13; 8:45 am]

BILLING CODE 6717-01-P